DEPARTMENT OF THE TREASURY

Submission for OMB Review; Comment Request

September 20, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 28, 2002 to be assured of consideration.

Bureau of Alcohol, Tobacco and Firearms (BATF)

OMB Number: 1512-0034.

Form Number: ATF F 5000.9.

Type of Review: Extension.

Title: Personnel Questionnaire Alcohol and Tobacco Products.

Description: The information listed on ATF F 5000.9, Personnel Questionnaire, enables ATF to determine whether or not an applicant for an alcohol or tobacco permit meets the minimum qualifications. The form identifies the individual, residence, business background, financial sources for the business and criminal record. If the applicant is found not to be qualified, the permit may be denied.

Respondents: Business or other for-profit.

Estimated Number of Respondents: 5,000.

Estimated Burden Hours Per Respondent: 2 hours.

Frequency of Response: On occasion.

Estimated Total Reporting Burden: 10,000 hours.

OMB Number: 1512-0171.

Form Number: ATF F 5220.3.

Type of Review: Extension.

Title: Inventory—Export Warehouse Proprietor.

Description: ATF F 5220.3 is used by export warehouse proprietors to record inventories that are required by law and regulations.

Respondents: Business or other for-profit.

Estimated Number of Respondents: 10.

Estimated Burden Hours Per Respondent: 5 hours.

Frequency of Response: On occasion.

Estimated Total Reporting Burden: 50 hours.

OMB Number: 1512-0185.

Form Number: ATF F 5400.5.

Type of Review: Extension.

Title: Report of Theft or Loss of Explosives.

Description: Losses or theft of explosives must, by statute, be reported within 24 hours of the discovery of the loss or theft. This form contains the minimum information necessary for ATF to initiate criminal investigations.

Respondents: Business or other for-profit.

Estimated Number of Respondents: 150.

Estimated Burden Hours Per Respondent: 1 hour, 48 minutes.

Frequency of Response: On occasion.

Estimated Total Reporting Burden: 270 hours.

OMB Number: 1512-0493.

Form Number: ATF F 5300.3.

Type of Review: Extension.

Title: Letterhead Request for Information in Regard to Federal Firearms Dealer's Records (Dealer's Records of Acquisition, Disposition & Supporting Data).

Description: This letter gives the user a simplified format to list the required information ATF needs to perform its functions in regard to the law. The respondent saves time because the questions are simple and a return address is supplied. The form is used to maintain a current status of firearms licensees.

Respondents: Business or other for-profit.

Estimated Number of Respondents: 28,000.

Estimated Burden Hours Per Respondent: 5 minutes.

Frequency of Response: On occasion.

Estimated Total Reporting Burden: 2,380 hours.

OMB Number: 1512-0549.

Form Number: ATF F 6330.1.

Type of Review: Extension.

Title: Application for National Firearm Examiner Academy.

Description: The Office of Training and Professional Development at ATF has developed a new training program for entry level firearm and toolmark examiners. The application will allow ATF to process eligible candidates.

Respondents: State, Local or Tribal Government, Federal Government.

Estimated Number of Respondents: 75.

Estimated Burden Hours Per Respondent: 10 minutes.

Frequency of Response: On occasion.

Estimated Total Reporting Burden: 13 hours.

OMB Number: 1512-0571.

Form Number: ATF F 5330.20.

Type of Review: Extension.

Title: Certificate of Compliance with 18 U.S.C. 922(g)(5)(B).

Description: This information collection is needed in order to verify that nonimmigrant aliens are in compliance with applicable importation laws and regulations.

Respondents: Individuals or households.

Estimated Number of Respondents: 3,000.

Estimated Burden Hours Per Respondent: 3 minutes.

Estimated Total Reporting Burden: 150 hours.

Clearance Officer: Jacqueline White, (202) 927-8930, Bureau of Alcohol, Tobacco and Firearms, Room 3200, 650 Massachusetts Avenue, NW., Washington, DC 20226.

OMB Reviewer: Joseph F. Lackey, Jr., (202) 395-7316, Office of Management and Budget, Room 10235, New Executive Office Building, Washington, DC 20503.

Mary A. Able,
Departmental Reports Management Officer.

[FR Doc. 02-24630 Filed 9-26-02; 8:45 am]

BILLING CODE 4810-31-P